ENVIRONMENTAL PROTECTION AGENCY

[EPA-HQ-OPP-2008-0722; FRL-8412-8]

Amendments to Terminate Certain Pesticide Uses

AGENCY: Environmental Protection Agency (EPA).

ACTION: Notice.

SUMMARY: This notice announces EPA's order for the amendments to terminate certain uses, voluntarily requested by the registrants and accepted by the Agency, of certain pesticide products, pursuant to section 6(f)(1) of the Federal Insecticide, Fungicide, and Rodenticide Act (FIFRA), as amended. This cancellation order follows an October 8, 2008, Federal Register Notice of Receipt of Requests from registrants to voluntarily amend their registrations of certain pesticide products (73 FR 58958; FRL-8385-2). In the October 8, 2008, Notice, EPA indicated that it would issue an order implementing the cancellation and amendments to terminate certain uses, unless the Agency received substantive comments within the 30 day comment period that would merit its further review of these requests, or unless the registrants withdrew their requests within this period. The Agency did not receive any comments on the notice except for comments pertaining to aldicarb. Accordingly, EPA hereby issues in this notice a cancellation order granting the requested amendments to terminate certain pesticide product uses except for the uses of aldicarb on coffee, pecans, and tobacco. The product cancellation order for the chloroneb product, Demosan 65W (EPA Reg. No. 073782-00002), which was included in the October 8, 2008 notice will be included in a separate Federal Register notice. Any distribution, sale, or use of the products subject to this cancellation order is permitted only in accordance with the terms of this order, including any existing stocks provisions.

DATES: The cancellations are effective May 20, 2009.

FOR FURTHER INFORMATION CONTACT: Eric Olson, Special Review and Reregistration Division (7508P), Office of Pesticide Programs, Environmental Protection Agency, 1200 Pennsylvania Ave., NW., Washington, DC 20460-0001; telephone number: (703) 308-8067; fax number: (703) 308-7070; e-mail address: olson.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2008-0722. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the amendments to terminate uses, as requested by registrants, of certain products registered under section 3 of FIFRA. These registrations are listed in sequence by registration number in Table 1 of this unit.

Table 1.—Product Registration Amendments to Terminate Uses
Registration Number | Product Name | Active Ingredient | Delete from Use
000264-00330 | Temik Brand 15G Aldicarb Pesticide | Aldicarb | Alfalfa grown for seed; Ornamentals; Sugarcane; Sorghum
000264-00426 | Temik Brand 15g Aldicarb Pesticide For Sale And Use In Calif. | Aldicarb | Alfalfa grown for seed; Ornamentals; Sugarcane; Sorghum
000264-00729 | Monitor 4 | Methamidophos | Cotton
000264-00741 | Monitor Technical | Methamidophos | Cotton
000264-00744 | Monitor 60% Concentrate | Methamidophos | Cotton
000264-01020 | Monitor 4 Spray | Methamidophos | Cotton
000264 AR-81-0044 | Monitor 4 | Methamidophos | Cotton
000264 AR-87-0007 | Monitor 4 | Methamidophos | Cotton
000264 CA-79-0188 | Monitor 4 | Methamidophos | Cotton
000264 MS-81-0014 | Monitor 4 | Methamidophos | Cotton
000264 MS-81-0055 | Monitor 4 | Methamidophos | Cotton
010330-00016 | Ethylene Oxide 10% and Carbon Dioxide Sterilizing Gas | ETO | Basil
010330-00018 | 20% Ethylene Oxide and 80% Carbon Dioxide Sterilizing Gas | ETO | Basil
010330-00021 | 8.5% Ethylene Oxide and Carbon Dioxide Sterilizing Gas | ETO | Basil
036736-00002 | Ethylene Oxide 100% | ETO | Basil
036736-00003 | Sterilizing Gas 3 | ETO | Basil
036736-00004 | Sterilizing Gas 4 | ETO | Basil
036736-00005 | Sterilizing Gas 5 | ETO | Basil
036736-00006 | Sterilizing Gas 6 | ETO | Basil
036736-00007 | Sterilizing Gas 8 | ETO | Basil
036736-00008 | Ethylene Oxide - MUP | ETO | Basil
045728-00001 | Thiram Technical | Thiram | Parks; Athletic Fields; Commercial Areas; Sod; Homeowner turf; Homeowner fungicide
045728-00021 | Thiram 75WP Fruit, Vegetable and Turf Fungicide | Thiram | Parks; Athletic Fields; Commercial Areas; Sod; Homeowner turf; Homeowner fungicide
400-434 | Thiram 480 DP | Thiram | Parks; Athletic Fields; Commercial Areas; Sod; Homeowner turf; Homeowner fungicide
062719-00391 | Kerb 50-W Selective Herbicide | Pronamide | All residential uses
062719-00397 | Kerb 50-W Herbicide in WSP | Pronamide | All residential uses
062719-00578 | Kerb 3.3 SC | Pronamide | All residential uses
067470-00006 | Ethylene Oxide | ETO | Basil
067470-00007 | Ethylene Oxide 100 R | ETO | Basil

Table 2 of this unit includes the names and addresses of record for the registrants of the products listed in Table 1 of this unit.

Table 2.—Registrants of Amended Products
EPA Company Number | Company Name and Address
000264 | Bayer Crop Science LP, 2 T.W., Alexander Drive, Research Triangle Park, NC 27709
010330 | Praxair, Inc., 39 Old Ridgebury Road, Danbury CT, 06810-5113
036736 | Balchem Corporation, PO Box 600, New Hampton, NY 10958
400 | Chemtura Corporation, 199 Benson Road, Middlebury CT, 06749
045728 | Taminco Inc., 21320 Sweet Clover Place, Ashburn, VA 20147
062719 | Dow Agrosciences LLLC, 9330 Zionsville Rd 308/2e, Indianapolis, IN 462681054
067470 | Honeywell - Specialty Chemicals NIC- 4, 101 Columbia Road, Morristown, NJ 07962-1139

III. Summary of Public Comments Received and Agency Response to Comments

On November 3, 2008, Bayer CropScience submitted a withdrawal of its request to voluntarily cancel the registration of TEMIK 15G for use on coffee, pecans and tobacco. EPA received no comments pertaining to the other registrations in this notice in response to the October 8, 2008, Federal Register notice announcing the Agency's receipt of the requests for voluntary cancellation and amendments to terminate certain uses.

IV. Cancellation Order

Pursuant to FIFRA section 6(f), EPA hereby approves the requested amendments to terminate uses of registrations identified in Table 1 of Unit II. Accordingly, the Agency orders that the product registrations identified in Table 1 of Unit II. are hereby amended to terminate the affected uses except for methamidophos products which will become effective September 30, 2009. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

A. Methamidophos.

On April 7, 2002, EPA signed the Interim Reregistration Eligibility Decision (IRED) for methamidophos. That IRED specified risk mitigation measures including: “Implement a 5-year phase out of the use on cotton.”

In accordance with the IRED, Bayer CropScience has submitted a request to voluntarily terminate all cotton uses of the methamidophos products listed above in Table 2 effective September 30, 2009. Provisions for the sale, disposition, and use of existing stocks of methamidophos products include the following: All sale or distribution by the registrant of existing stocks labeled for use on cotton is prohibited after September 30, 2009, unless that sale or distribution is solely for the purpose of facilitating disposal or export of the product. Existing stocks labeled for use on cotton may be sold and distributed by persons other than the registrant until July 31, 2010. Existing stocks labeled for use on cotton may be used until September 30, 2010, provided that such use complies with the EPA-approved label and labeling of the product.

B. Other Chemicals Addressed in this Order.

The cancellation order will allow persons other than the registrant to continue to sell and/or use existing stocks of canceled products until such stocks are exhausted, provided that such use is consistent with the terms of the previously approved labeling on, or that accompanied, the canceled product. This order specifically prohibits any use of existing stocks that is not consistent with such previously approved labeling.

List of Subjects

Environmental protection, Pesticides and pests.

Dated: May 7, 2009.
Richard P. Keigwin, Jr.,
Director, Special Review and Reregistration Division, Office of Pesticide Programs.

[FR Doc. E9-11630 Filed 5-19-09; 8:45 am]

BILLING CODE 6560-50-S